DEPARTMENT OF TRANSPORTATION

Coast Guard

33 CFR Parts 100, 110 and 165

[CGD01-99-050]

RIN 2115-AA97, AA98, AE46

Temporary Regulations: OPSAIL 2000/International Naval Review 2000 (INR 2000), Port of New York/New Jersey

AGENCY: Coast Guard, DOT.

ACTION: Notice of proposed rulemaking.

SUMMARY: The Coast Guard proposes to establish temporary regulations in New York Harbor, Sandy Hook Bay, the Hudson and East Rivers, and the Kill Van Kull for OPSAIL 2000/INR 2000 activities. This action is necessary to provide for the safety of life on navigable waters during OPSAIL 2000/INR 2000. This action is intended to restrict vessel traffic in portions of New York Harbor, Sandy Hook Bay, the Hudson and East Rivers, and the Kill Van Kull.

DATES: Comments and related material must reach the Coast Guard on or before March 23, 2000.

ADDRESSES: You may mail comments and related material to the Waterways Oversight Branch (CGD01-99-050), Coast Guard Activities New York, 212 Coast Guard Drive, Staten Island, New York 10305, or deliver them to room 203 at the same address. Coast Guard Activities New York maintains the public docket for this rulemaking. Comments and material received from the public, as well as documents indicated in this preamble as being available in the docket, will become part of this docket and will be available for inspection or copying at room 205, the Waterways Oversight Branch of Coast Guard Activities New York, between 8 a.m., e.s.t. and 3 p.m., e.s.t. Monday through Friday, except Federal holidays.

FOR FURTHER INFORMATION CONTACT: Lieutenant J. Lopez, Waterways Oversight Branch, Coast Guard Activities New York (718) 354-4193.

SUPPLEMENTARY INFORMATION:

Request for Comments

We encourage you to participate in this rulemaking by submitting comments and related material. If you do so, please include your name and address, identify the docket number for this rulemaking (CGD01-99-050), indicate the specific section of this document to which each comment applies, and give the reason for each comment. Please submit all comments and related material in an unbound format, no larger than 81/2 by 11 inches, suitable for copying. If you would like to know they reached us, please enclose a stamped, self-addressed postcard or envelope. We will consider all comments and material received during the comment period. We may change this proposed rule in view of them.

Public Meeting

We do not now plan to hold a public meeting. But you may submit a request for a meeting by writing to the Waterways Oversight Branch of Coast Guard Activities New York at the address under ADDRESSES explaining why one would be beneficial. If we determine that one would aid this rulemaking, we will hold one at a time and place announced by a later notice in the Federal Register.

Background and Purpose

The proposed temporary regulations are for OPSAIL 2000/INR 2000 events held on New York Harbor, Sandy Hook Bay, the Hudson and East Rivers, and the Kill Van Kull. These events will be held from July 2—10, 2000. This rule is proposed to provide for the safety of life on navigable waters and to protect the U.S. Navy vessels and Port of New York and New Jersey during these events.

Discussion of Proposed Rule

The U.S. Navy is sponsoring the International Naval Review.

This event will consist of the anchoring of approximately 50 US and foreign naval vessels in line between the Verrazano-Narrows Bridge and the George Washington Bridge. A high level U.S. dignitary will transit aboard a U.S. Navy vessel along this line as a ceremonial review. Operation Sail, Inc. is sponsoring the seventh OPSAIL Parade of Tall Ships, as well as a fireworks display co-sponsored by Macy's Inc. Operation Sail will consist of a parade of sailing vessels from the Verrazano-Narrows Bridge north past a reviewing stand aboard the USS JOHN F. KENNEDY (CV-67) anchored in Federal Anchorage 21B in Upper New York Bay. This parade will continue north to the George Washington Bridge where these vessels will turn south and go to berth throughout the Port of New York and New Jersey. These events are scheduled to take place on July 4, 2000, in the Port of New York/New Jersey, on the waters of New York Harbor, Sandy Hook Bay, the Hudson and East Rivers, and the Kill Van Kull. The Coast Guard expects a minimum of 40,000 spectator craft for these events. The proposed regulations create temporary anchorage regulations, vessel movement controls, and two security zones. The regulations will be in effect at various times in the Port of New York and New Jersey during the period June 29, 2000 through July 5, 2000. The vessel congestion due to the large number of participating and spectator vessels poses a significant threat to the safety of life. This proposed rulemaking is necessary to ensure the safety of life on the navigable waters of the United States.

Regulated Areas

The Coast Guard proposes to establish two regulated areas in New York Harbor that will be in effect from July 3—5, 2000. These two proposed regulated areas are needed to protect the maritime public and participating vessels from possible hazards to navigation associated with; an International Naval Review conducted on the Hudson River and New York Harbor Upper Bay, a Parade of Tall Ships transiting the waters of Sandy Hook Bay, New York Harbor, and the Hudson River in close proximity; fireworks fired from 18—21 barges on the Hudson and East Rivers and in Upper New York Bay; and a large number of naval vessels, Tall Ships, and spectator craft anchored in close proximity throughout the duration of these events. These regulated areas include vessel anchoring and operating restrictions.

Regulated Area A covers all waters of New York Harbor Lower Bay and Sandy Hook Bay within the following boundaries: south of the Verrazano-Narrows Bridge; west of a line drawn shore to shore along 074°00′00″ W (NAD 1983) between Coney Island, New York, and Navesink, New Jersey; and east of a line drawn shore to shore along 074°03′12″ W (NAD 1983) between Fort Wadsworth, Staten Island, and Leonardo, New Jersey and all waters of Ambrose Channel shoreward of buoys 1 and 2. Please see Chartlet I, depicting Regulated Area A, included with this NPRM for the convenience of the reader. This proposed area is to be used as a staging area for vessels participating in the Parade of Tall Ships. This proposed regulated area is effective from 6 a.m., e.s.t. July 3, until 4 p.m., e.s.t. on July 4, 2000.

BILLING CODE 4910-15-U

Regulated Area B covers all waters of New York Harbor, Upper Bay, the Hudson, Harlem, and East Rivers, and the Kill Van Kull within the following boundaries: south of 40°52′39″ N (NAD 1983) on the Hudson River at Spuyten Duyvil Creek; west of the Throgsneck Bridge on the East River; north of the Verrazano-Narrows Bridge; and east of a line drawn from shore to shore along 074°05′15″ W (NAD 1983) between New Brighton, Staten Island, and Constable Hook, New Jersey, in the Kill Van Kull. Please see Charlet II , depicting Regulated Area B, included with this NPRM for the convenience of the reader. This proposed area is for the International Naval Review, the Parade of Tall Ships, and the July 4th fireworks display. This proposed regulated area is effective from 10:00 a.m., e.s.t. on July 3, 2000, until 10 a.m., e.s.t. on July 5, 2000.

Spectator vessels transiting Regulated Area A or B must do so at no wake speed or at speeds not to exceed 10 knots, whichever is less. No vessels other than OPSAIL 2000/INR 2000 vessels, their assisting tugs, and enforcement vessels, may enter or navigate within the boundaries of the Anchorage Channel or Hudson River in regulated Area B unless specifically authorized by the Coast Guard Captain of the Port, New York, or his on-scene representative. No vessel may anchor in the Anchorage Channel or Hudson River outside of the designated spectator anchorages in Regulated Area B at any time without authorization. The operation of seaplanes, including taxiing, landing, and taking off, is prohibited in Area B on July 3-4, 2000, without prior written authorization from the Captain of the Port. Ferry services may operate in Area B on July 3 and 5, 2000. On July 4, 2000 only those ferry services with prior written authorization from the Coast Guard Captain of the Port will be authorized to operate in this area.

No vessel, other than OPSAIL 2000/INR 2000 vessels, their assisting tugs, and enforcement vessels, is permitted to transit the waters between Governors Island and The Battery in southern Manhattan from 7 a.m., e.s.t. July 4, 2000 until the end of the Parade of Sail. Vessels which must transit to or from the East River may only do so by using Buttermilk Channel unless otherwise authorized by the Coast Guard Captain of the Port, New York, or his on-scene representative.

Proposed Regulated Area A contains three anchorage grounds for use by OPSAIL 2000/INR 2000 vessels only and it will also serve as a staging area for the vessels participating in the Parade of Sail. Proposed Regulated Area B contains anchorage grounds for OPSAIL 2000/INR 2000 vessels and spectator craft. It contains the International Naval Review of Ships on the Hudson River and New York Harbor's Upper Bay, from the Verrazano-Narrows Bridge to the George Washington Bridge (river mile 11.0). The International Naval Review will be conducted on the morning of July 4, 2000 and consists of a column of approximately 50 International Naval Ships anchored in the Hudson River and New York Harbor's Upper Bay along the western side of the Anchorage Channel. The U.S. Navy Review Ship will transit south along this column from the George Washington Bridge to the Verrazano-Bridge and conduct a review of all the participating naval ships. After the INR, approximately 300 vessels will participate in the Parade of Sailing Vessels which will take place in Area B between the Verrazano-Narrows Bridge and the George Washington Bridge (river mile 11.0) on the Hudson River. Additionally, Area B will contain 18-21 fireworks barges being used for the July 4th fireworks display. Fireworks barges will be located in the Hudson River between the Holland Tunnel Ventilators and West 65th Street in Manhattan, in the East River between the southern tip of Roosevelt Island and The Battery, and in the Anchorage Channel north of the Verrazano-Narrows Bridge.

Anchorage Regulations

The Coast Guard also proposes to establish temporary Anchorage Regulations for participating OPSAIL 2000/INR 2000 ships and spectator craft. Some current Anchorage Regulations in 33 CFR 110.155 will be temporarily suspended by this regulation and new Anchorage Grounds and regulations will be temporarily established. Chartlets I, III, and IV illustrate the proposed anchorage grounds and are included for the convenience of the reader.

The proposed anchorage regulations designate selected current or temporarily established Anchorage Grounds for spectator or OPSAIL 2000/INR 2000 participant vessel use only. They restrict all other vessels from using these Anchorage Grounds during a portion of the OPSAIL 2000/INR 2000 event. The Anchorage Grounds are needed to provide viewing areas for spectator vessels while maintaining a clear parade route for the participating OPSAIL/INR vessels and to protect boaters and spectator vessels from the hazards associated with the International Naval Review and the Parade of Tall Ships.

The Coast Guard proposes to designate Anchorage Grounds 16, 17, and 18-A in the Hudson River in the vicinity of the George Washington Bridge (river mile 11.0); and the temporarily established Liberty Island Anchorage, Ellis Island Anchorage, Caven Point Anchorage, Jersey Flats Anchorage and Robbins Reef Anchorage in New York Harbor's Upper Bay, and a temporary Anchorage Ground from north of the Verrazano-Narrows Bridge to Owls Head Park along the Brooklyn shoreline exclusively for spectator vessel use from 12 noon on June 29, 2000, until 12 noon on July 5, 2000.

The Coast Guard also proposes to designate Anchorage Grounds 21-B, 23-A, 23-B, and 24 in New York Harbor's Upper Bay for OPSAIL 2000/INR 2000 participant vessels. These regulations are effective from 3 a.m., e.s.t. July 1, 2000, through 6 p.m., e.s.t. July 5, 2000. Other vessels may be authorized to use these anchorages on July 1 and 2, 2000 as determined by the Captain of the Port, New York.

Additionally, the Coast Guard proposes to designate Anchorage Ground 25 and a temporarily established Anchorage Ground covering portions of Anchorage Grounds 26, 49-F and 49G in Sandy Hook Bay for OPSAIL 2000/INR 2000 participant vessels. These proposed regulations are effective from 6 a.m., e.s.t. July 2, 2000, through 4 p.m., e.s.t. July 4, 2000.

The eastern portions of the Jersey Flats and Robbins Reef Anchorages and the Narrows Temporary Anchorage Ground are for vessels between 25 meters (82 feet) and 60 meters (197 feet) in length. Anchorage 21-C is for vessels greater than 60 meters (197 feet). Positioning within these three anchorages will be controlled by the Captain of the Port, New York. Persons desiring to use these anchorages must apply for a permit as outlined in the public notice titled Lottery for Spectator Craft Viewing Anchorages for OPSAIL 2000/International Naval review 2000 (INR 2000), Port of New York/New Jersey that was published in the Federal Register on November 19, 1999 (64 FR 63362).

Security Zones

The Coast Guard proposes to establish a moving security zone for all waters within 500 yards of the Review Ship for the International Naval Review from 7 a.m., e.s.t. until 11 a.m., e.s.t. on July 4, 2000. The Review Ship will be the U.S. Navy vessel that is anchored the furthest north in the Hudson River at 7 a.m., e.s.t. on July 4, 2000. This ship will get underway and transit down the Hudson River and Upper New York Bay between the George Washington Bridge (river mile 11.0) and the Verrazano-Narrows Bridge. The Review Ship will be easily identifiable during its transit because it will be the only large U.S. Navy vessel that is underway at this time in the Port of New York, and it will be escorted by numerous U.S. Coast Guard small boats. A second security zone is proposed for all waters within 500 yards of the USS JOHN F. KENNEDY (CV-67), from 10 a.m., e.s.t. until 5 p.m., e.s.t. on July 4, 2000 while in Anchorage 21-B and while being used as the reviewing stand for the Parade of Sailing Vessels. These security zones are needed to protect the Port of New York and New Jersey and U.S. Navy vessels during the International Naval Review and Parade of Sailing Vessels.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT)(44 FR 11040, February 26, 1979).

We expect the economic impact of this proposed rule to be so minimal that a full Regulatory Evaluation under paragraph 10e of the regulatory policies and procedures of DOT is unnecessary.

Although this regulation prevents traffic from transiting a portion of New York Harbor, Sandy Hook Bay, the Hudson and East Rivers, and the Kill Van Kull during the events, the effect of this regulation will not be significant for the following reasons: the limited duration that the regulated areas will be in effect and the extensive advance notifications that will be made to the maritime community via the Local Notice to Mariners, facsimile, marine information broadcasts, New York Harbor Operations Committee meetings, and New York area newspapers, so mariners can adjust their plans accordingly. At no time will commercial shipping access to Port Newark/Port Elizabeth facilities be prohibited. Access to those areas may be accomplished using Raritan Bay, Arthur Kill, Kill Van Kull, and Newark Bay as an alternate route. This will allow the majority of the maritime industrial activity in the Port of New York/New Jersey to continue, relatively unaffected. Similar regulated areas were established for the 1986 and 1992 OPSAIL events. Based upon the Coast Guard's experiences learned from these previous events of a similar magnitude, these proposed regulations have been narrowly tailored to impose the least impact on maritime interests yet provide the level of safety deemed necessary.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

For the reasons discussed in the Regulatory Evaluation section above, the Coast Guard certifies under 5 U.S.C. 605(b) that this proposed rule would not have a significant economic impact on a substantial number of small entities. This proposed rule would affect the following entities, some of which might be small entities: the owners or operators of vessels intending to transit or anchor in portions of Lower and Upper New York Bay and the Hudson and East Rivers during various times from July 2-10, 2000. These regulations would not have a significant economic impact on a substantial number of small entities for the following reasons. Although these regulations would apply to a substantial portion of the Port of New York/New Jersey, designated areas for viewing the Parade of Sailing Vessels and the Fourth of July Fireworks are being established to allow for maximum use of the waterways by commercial tour boats that usually operate in the affected areas. Before the effective period, the Coast Guard would make notifications to the public via mailings, facsimiles, the Local Notice to Mariners and use of the sponsors Internet site. In addition, the sponsoring organization, OPSAIL Inc., is planning to publish information of the event in local newspapers, pamphlets, and television and radio broadcasts.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Lieutenant J. Lopez, Coast Guard Activities New York, Waterways Oversight Branch at (718) 354-4193.

Collection of Information

This proposed rule would call for no new collection of information under the Paperwork Reduction Act of 1995 (44 U.S.C. 3501-3520.).

Federalism

We have analyzed this proposed rule under E.O. 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

We considered the environmental impact of this proposed rule and concluded that, under figure 2-1, paragraph 34 (f, g, and h), of Commandant Instruction M16475.lC, this proposed rule is categorically excluded from further environmental documentation. These temporary regulations establish special local regulations, anchorage grounds, and security zones. A “Categorical Exclusion Determination” is available in the docket where indicated under ADDRESSES.

List of Subjects

33 CFR Part 100

Marine safety, Navigation (water), Reporting and recordkeeping requirements, Waterways.

33 CFR Part 110

Anchorage grounds.

33 CFR Part 165

Harbors, Marine safety, Navigation (water), Reporting and recordkeeping requirements, Security measures, Waterways.

For the reasons discussed in the preamble, the Coast Guard proposes to amend 33 CFR Parts 100, 110, and 165 as follows:

PART 100—MARINE EVENTS

1. The authority citation for part 100 continues to read as follows:

Authority: 33 U.S.C. 1233 through 1236; 49 CFR 1.46; 33 CFR 100.35.

2. Add temporary § 100.T01-050 to read as follows:

§ 100.T01-050 OPSAIL 2000/ International Naval Review (INR) 2000, Port of New York/New Jersey.

(a) Regulated areas. (1) Regulated Area A—(i) Location. All waters of New York Harbor, Lower Bay and Sandy Hook Bay within the following boundaries: south of the Verrazano-Narrows Bridge; west of a line drawn shore to shore along 074°00′00″ W (NAD 1983) between Coney Island, New York, and Navesink, New Jersey; and east of a line drawn shore to shore along 074°03′12″ W (NAD 1983) between Fort Wadsworth, Staten Island, and Leonardo, New Jersey, and all waters of Ambrose Channel shoreward of buoys 1 and 2.

(ii) Enforcement period. Paragraph (a)(1)(i) of this section is enforced from 6 a.m., e.s.t. July 3, until 4 p.m., e.s.t. on July 4, 2000.

(2) Regulated Area B.—(i) Location. All waters of New York Harbor, Upper Bay, the Hudson and East Rivers, and the Kill Van Kull within the following boundaries: south of 40°52′39″ N (NAD 1983) on the Hudson River at Spuyten Duyvil Creek; west of the Throgsneck Bridge on the East River; north of the Verrazano-Narrows Bridge; and east of a line drawn from shore to shore along 074°05′15″ W (NAD 1983) between New Brighton, Staten Island, and Constable Hook, New Jersey, in the Kill Van Kull.

(ii) Enforcement period. Paragraph (a)(2)(i) of this section is enforced from 10 a.m., e.s.t. on July 3, 2000, until 10 a.m., e.s.t. on July 5, 2000.

(b) Special local regulations. (1) No vessel except OPSAIL 2000/INR 2000 participating vessels and their assisting tugs, spectator vessels, and those vessels exempt from the regulations in this section, may enter or navigate within Areas A and B, unless specifically authorized by the Coast Guard Captain of the Port, New York, or his on-scene representative.

(2) Vessels transiting Area B must do so at no wake speed or at speeds not to exceed 10 knots, whichever is less.

(3) Notwithstanding paragraph (b)(1) of this section, no vessel, other than OPSAIL 2000/INR 2000 Vessels, their assisting tugs, and enforcement vessels, may enter or navigate within the boundaries of the main shipping channels in Area B unless they are specifically authorized to do so by Coast Guard Captain of the Port, New York, or his on-scene representative. No vessel in Area B is permitted to cross through the parade of sail, cross within 500 yards of the lead or last vessel in the parade of sail, or maneuver alongside within 100 yards of any OPSAIL 2000/INR 2000 Vessel unless authorized to do so by the Captain of the Port.

(4) No vessel is permitted to anchor in the Anchorage Channel or the Hudson River outside of the designated anchorages at any time without authorization. Vessels which need to anchor to maintain position will only do so in designated anchorage areas.

(5) No vessel, other than OPSAIL 2000/INR 2000 Vessels, their assisting tugs, and enforcement vessels, is permitted to transit the waters between Governors Island and The Battery in southern Manhattan from 7 a.m., e.s.t. July 4, 2000 until the end of the Parade of Sailing Vessels. Vessels which must transit to or from the East River may only do so by using Buttermilk Channel, unless otherwise authorized by the Coast Guard Captain of the Port, New York, or his designated on-scene representative.

(6) Ferry services may operate in Area B on July 3 and 5, 2000. On July 4, 2000 only those with prior written authorization from the Coast Guard Captain of the Port will be authorized to operate in this area.

(7) The operation of seaplanes, including taxiing, landing, and taking off, is prohibited in Area B on July 3-4, 2000, without prior written authorization from the Captain of the Port.

(8) All spectator vessels must maintain their position in the designated spectator craft anchorages during the fireworks display on July 4th scheduled from 9 p.m., e.s.t. until 10:45 p.m., e.s.t.

(c) Effective period. This section is effective from 6 a.m., e.s.t. on July 3, 2000, until 10 a.m., e.s.t. on July 5, 2000.

PART 110—ANCHORAGE REGULATIONS

1. The authority citation for part 110 continues to read as follows:

Authority: 33 U.S.C. 471, 1221 through 1236, 2030, 2035 and 2071; 49 CFR 1.46 and 33 CFR 1.05-1(g).

2. Effective June 29, 2000 through July 5, 2000, § 110.155 is amended as follows:

a. Add introductory text to the beginning of the section;

b. Add new paragraphs (c)(1)(ii), (c)(2)(ii) and (c)(3)(ii);

c. Paragraphs (d)(1) through (5), (d)(7) through (9), (d)(10)(i), (d)(12)(i) and the introductory text of paragraph (d)(16) are suspended and new paragraphs (d)(10)(ii), (d)(11)(iii), (d)(12)(iii) through (iv), (d)(13)(vi), (d)(14)(iv), (d)(15)(iii), and (d)(17) through (20) are added;

d. Add new paragraph (e)(1)(iii);

e. The Note to paragraph (f)(1) is suspended;

f. Paragraphs (m)(2)(i) through (ii) and (m)(3)(i) are suspended and new paragraphs (m)(2)(iii) and (m)(3)(ii) are added;

g. Paragraph (n)(1) is suspended; and

h. Add new paragraph (o).

§ 110.155 Port of New York.

Mariners are cautioned that the areas designated as anchorage grounds in this section have not been subject to any special survey or inspection and that charts may not show all seabed obstructions or the shallowest depths. In addition, the anchorages are in areas of substantial currents, and not all anchorages are over good holding ground. Mariners are advised to take appropriate precautions when using these temporary anchorages. These are not special anchorage areas. Vessels must display anchor lights, as required by the navigation rules.

* * * * *

(c) * * *

(1) * * *

(ii) This anchorage is designated for the exclusive use of spectator vessels less than 25 meters (82 feet) in length on a first come, first served basis.

(2) * * *

(ii) See paragraph (c)(1)(ii) of this section.

(3) * * *

(ii) See paragraph (c)(1)(ii) of this section.

* * * * *

(d) * * *

(10) * * *

(ii) This anchorage is for OPSAIL 2000 participating vessels only.

(11) * * *

(iii) This anchorage is reserved for OPSAIL 2000/INR 2000 participating vessels. No other vessel may anchor or operate in this area within 100 yards of OPSAIL 2000/INR 2000 participating vessels.

(12) * * *

(iii) This anchorage is for vessels greater than 60 meters (197 feet) in length. Persons desiring to use this anchorage must apply for a permit as outlined in the public notice Lottery for Spectator Craft Viewing Anchorages for OPSAIL 200/International Naval review 2000 (INR 2000), Port of New York/New Jersey that was published in the Federal Register on November 19, 1999 (64 FR 63362).

(iv) This anchorage is available for vessels observing or participating in OPSAIL 2000/INR 2000 festivities and which have been authorized by the Coast Guard Captain of the Port, New York. No vessel may anchor within this area without authorization to do so.

(13) * * *

(vi) See paragraph (d)(12)(iv) of this section.

(14) * * *

(iv) See paragraph (d)(12)(iv) of this section.

(15) * * *

(iii) See paragraph (d)(12)(iv) of this section.

* * * * *

(17) The anchorages in this paragraph are designated for the exclusive use of spectator vessels less than 25 meters (82 feet) in length on a first come, first served basis.

(i) Ellis Island Anchorage. That area bound by the following points: 40°41′55″N, 074°02′56″W; 40°41′29.5″N, 074°02′05″W; 40°41′42″N, 074°02′00.5″W; 40°41′55″N, 074°01′58″W; 40°42′05″N, 074°01′57″W; 40°42′20.5″N, 074°02′06″W (NAD 1983); thence along the shoreline to the point of beginning.

(ii) Liberty Island Anchorage. That area bound by the following points: 40°41′30.5″N, 074°03′15.5″W; 40°41′11.5″N, 074°02′44″W; 40°41′34″N, 074°02′26.5″W; 40°41′51.5″N, 074°02′59.5″W (NAD 1983); thence along the shoreline to the point of beginning.

(iii) Caven Point Anchorage. That area bound by the following points: 40°40′33″N, 074°03′33″W; 40°40′25″N, 074°03′23″W; 40°40′09.5″N, 074°02′59″W; 40°40′59.5″N, 074°02′26.5″W; 40°41′26″N, 074°03′18″W (NAD 1983); thence along the shoreline and the Caven Point Pier to the point of beginning.

(18) Jersey Flats Anchorage. That area bound by the following points: 40°39′57″N, 074°04′00″W; 40°39′50″N, 074°03′56″W; 40°39′35″N, 074°03′22″W; 40°40′02.5″N, 074°03′04″W; 40°40′53″N, 074°04′17″W (NAD 1983); thence along the shoreline to the point of beginning.

(i) The area west of the eastern end of the Global Marine Terminal Pier is for the exclusive use of spectator vessels less than 25 meters (82 feet) in length on a first come, first served basis. The area east of the eastern end of the Global Marine Terminal Pier is for vessels between 25 meters (82 feet) and 60 meters (197 feet) in length.

(ii) Persons desiring to use this anchorage must apply for a permit as outlined as outlined in the public notice Lottery for Spectator craft Viewing Anchorages for OPSAIL 200/International Naval review 2000 (INR 2000), Port of New York/New Jersey that was published in the Federal Register on November 19, 1999 (64 FR 63362).

(19) Robbins Reef Anchorage. That area bound by the following points: 40°39′19.5″N, 074°05′10″W; 40°39′00″N, 074°03′46″W; 40°39′22″N, 074°03′29″W; 40°39′49.5″N, 074°04′06″W; (NAD 1983); thence along the shoreline to the point of beginning.

(i) The area west of the eastern end of the Military Ocean Terminal Pier is for the exclusive use of spectator vessels less than 25 meters (82 feet) in length on a first come, first served basis. The area east of the eastern end of the Military Ocean Terminal Pier is for vessels between 25 meters (82 feet) and 60 meters (197 feet) in length.

(ii) Persons desiring to use this anchorage must apply for a permit as outlined in the public notice Lottery for Spectator craft Viewing Anchorages for OPSAIL 2000/International Naval review 2000 (INR 2000), Port of New York/New Jersey that was published in the Federal Register on November 19, 1999 (64 FR 63362).

(20) All vessels anchored in the anchorages described in paragraphs (d)(17 through 19) of this section must comply with the requirements in paragraphs (d)(16)(iii through vii) of this section. Any vessel anchored in or intending to anchor in Federal Anchorage 21-A through 21-C, 23-A, 23-B, 24 or 25 must comply with the requirements in paragraphs (d)(16)(i) through (x) of this section.

(e) * * *

(1) * * *

(iii) No vessel other than OPSAIL 2000/INR 2000 Vessels and their designated assist tugs may anchor and/or approach within 100 yards of any OPSAIL 2000/INR 2000 Vessel navigating or anchored in this area.

* * * * *

(m) * * *

(2) * * *

(iii) Anchorage No. 49-F is reserved for vessels as set out in paragraph (o)(2) of this section.

(3) * * *

(ii) Anchorage No. 49-G is reserved for vessels as set out in paragraph (o)(2) of this section.

* * * * *

(o) Temporary anchorage grounds. (1) Narrows anchorage: That area bound by the following points: 40°38′17″ N, 074°02′18.5″W; 40°38′22″N, 074°02′39″W; 40°38′02.5″N, 074°02′47.5″W; 40°37′21.5″N, 074°02′48.5″W; 40°36′31″N, 074°02′34″W; 40°36′36.5″N, 074°02′15.5″W; 40°36′53.5″N, 074°02′28.5″W; 40′37′13″N, 074°02′34″W; 40°37′44″N, 074°02′33″W; thence to the point of beginning at 40°38′17″N, 074°02′18.5″W (NAD 1983).

(i) This anchorage is designated for the exclusive use of spectator vessels between 25 meters (82 feet) and 60 meters (197 feet) in length. Persons desiring to use this anchorage must apply for a permit as outlined in the public notice Lottery for Spectator craft Viewing Anchorages for OPSAIL 2000/International Naval review 2000 (INR 2000), Port of New York/New Jersey that was published in the Federal Register on November 19, 1999 (64 FR 63362).

(ii) Effective period. Paragraph (o)(1) of this section is effective from 12 p.m., e.s.t. on July 2, 2000, through 12 noon on July 5, 2000.

(2) Sandy Hook Bay Anchorage: That area bound by the following points: 40°28′30″N, 074°01′42″W; 40°27′56″N, 074°01′35″W; 40°27′54″N, 074°01′25″W; 40°26′00″N, 074°00′58″W; 40°26′00″N, 074°02′00″W; 40°26′29″N, 074°02′51″W; 40°27′29″N, 074°02′10″W; 40°27′40″N, 074°02′36″W; 40°28′07″N, 074°02′19″W (NAD 1983); thence along the shoreline to the point of beginning.

(i) This anchorage sets aside Anchorage No. 49-F and a portion of Anchorage No. 26, as described in paragraph (f)(1) of this section, for the exclusive use of OPSAIL 2000/INR 2000 Vessels.

(ii) No vessels other than OPSAIL 2000/INR 2000 naval and Tall Ships, their designated assist tugs, and enforcement vessels may anchor, loiter, or approach within 100 yards of any OPSAIL 2000/INR 2000 Vessel when it is navigating or at anchor in this area.

(iii) Effective period. Paragraph (o)(2) of this section is effective from 6 a.m., e.s.t. on July 2, 2000, through 4 p.m., e.s.t. on July 4, 2000.

PART 165—REGULATED NAVIGATION AREAS AND LIMITED ACCESS AREAS

1. The authority citation for Part 165 continues to read as follows:

Authority: 33 U.S.C. 1231; 50 U.S.C. 191; 33 CFR 1.05-1(g), 6.04-1, 6.04-6, 160.5; 49 CFR 1.46.

2. Add temporary § 165.T01-050 to read as follows:

§ 165.T01-050 Security Zones: International Naval Review (INR) 2000, Hudson River and Upper New York Bay.

(a) The following areas are established as security zones:

(1) Security zone A.—(i) Location: This security zone includes all waters within 500 yards of the U.S. Navy review ship and the zone will move with the review ship as it transits the Hudson Coast Guard. Upon being hailed by a U.S. Coast Guard vessel by siren, radio, flashing light, or other means, the operator of a vessel shall proceed as directed.

(ii) [Reserved]

(b) [Reserved]

Dated: January 14, 2000.
R.M. Larrabee,
Rear Admiral, U.S. Coast Guard, Commander, First Coast Guard District.

[FR Doc. 00-2245 Filed 2-4-00; 8:45 am]

BILLING CODE 4910-15-U